FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 27, 2018.

A. Federal Reserve Bank of Kansas City (Dennis Denney, Assistant Vice President) 1 Memorial Drive, Kansas City, Missouri 64198-0001:

1. Earl L. Edsall and Janet M. Edsall, Co-Trustees of the Earl L. Edsall Living Trust and of the Janet M. Edsall Living Trust, Fred R. Lucas, Jr., Trustee of the Fred R. Lucas, Jr. Living Trust, Joyce Gail Lucas, Trustee of the Joyce Gail Lucas Living Trust, Larry D. Major, Trustee of the Gracie I. Major 1992 Living Trust and of the Larry D. Major 1992 Living Trust, N. Loren Parham, Bethany Parham, Lori Osmus, Robert Osmus, Mark Taylor, and Janet Taylor, all of Watonga, Oklahoma; to retain voting shares of First State Bancorporation of Watonga, Watonga, Oklahoma, and thereby indirectly retain shares of First State Bank, Watonga, Oklahoma.

Board of Governors of the Federal Reserve System, December 4, 2018.
Yao-Chin Chao,
Assistant Secretary of the Board.

[FR Doc. 2018-26649 Filed 12-7-18; 8:45 am]

BILLING CODE P